ENVIRONMENTAL PROTECTION AGENCY

[EPA-HQ-OAR-2015-0293; FRL-9935-46-OAR]

Notice of Opportunity To Comment on an Analysis of the Greenhouse Gas Emissions Attributable to Production and Transport of Jatropha Curcas Oil for Use in Biofuel Production

Correction

In Notice Document 2015-26039, appearing on pages 61406-61419, in the Issue of Tuesday, October 13, 2015, make the following correction:

On page 61406, in the second column, under the heading “DATES:” the entry “October 13, 2015” is corrected to read “November 12, 2015”.

[FR Doc. C1-2015-26039 Filed 10-16-15; 8:45 am]

BILLING CODE 1505-01-D